DEPARTMENT OF LABOR

Office of the Secretary

Agency Information Collection Activities; Submission for OMB Review; Comment Request; Institutional Analysis of American Job Centers (AJCs) Study

AGENCY: Office of the Assistant Secretary for Policy, Labor.

ACTION: Notice.

SUMMARY: The Department of Labor (DOL), as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that required data can be provided in the desired format, reporting burden (time and financial resources) is minimized, collection instruments are clearly understood, and the impact of collection requirements on respondents can be properly assessed.

A copy of the proposed ICR can be obtained by contacting the office listed below in the addressee section of this notice.

DATES: Written comments must be submitted to the office listed in the addressee section below on or before September 30, 2014.

ADDRESSES: You may submit comments by either one of the following methods: Email: ChiefEvaluationOffice@dol.gov; Mail or Courier: Erika Liliedahl, Chief Evaluation Office, U.S. Department of Labor, Room S-2312, 200 Constitution Avenue NW., Washington, DC 20210. Instructions: Please submit one copy of your comments by only one method. All submissions received must include the agency name and OMB Control Number identified above for this information collection. Because we continue to experience delays in receiving mail in the Washington, DC area, commenters are strongly encouraged to transmit their comments electronically via email or to submit them by mail early. Comments, including any personal information provided, become a matter of public record. They will also be summarized and/or included in the request for OMB approval of the information collection request.

FOR FURTHER INFORMATION CONTACT: Erika Liliedahl by telephone at 202-693-5992 (this is not a toll-free number) or by email at ChiefEvaluationOffice@dol.gov.

SUPPLEMENTARY INFORMATION:

I. Background

When Congress overhauled the country's public workforce system with the Workforce Investment Act (WIA) in 1998, its paramount goal was to replace America's fragmented and inefficient patchwork of employment and training programs with a more streamlined and coordinated service delivery system. To that end, WIA required that local workforce investment boards (LWIBs) establish centers—now known as American Job Centers (AJCs)—to provide “one-stop shopping” for customers seeking employment information and access to jobs, training, and related services. While all AJCs provide employment related services, there is variation across centers in their organization, partnering arrangements, data reporting, funding, administration, and service delivery. The U.S. Department of Labor (DOL) is sponsoring a comprehensive study to better understand the spectrum of institutional features that shape AJCs' day-to-day operations and customer experiences.

The goals of the Institutional Analysis of American Job Centers (AJCs) study are to systematically document key institutional characteristics of AJCs; present a comprehensive description of AJC funding, organization, administration and management, and service delivery structures and processes; and develop typologies of AJCs that capture the institutional variations documented.

To achieve these goals, an in-depth institutional analysis will be conducted that systematically documents AJCs' operations across 10 research domains: (1) Administrative structure; (2) partnerships; (3) performance and strategic management; (4) staffing; (5) physical environment; (6) Management Information S system capacity and the use of technology, including electronic tools and resources; (7) service delivery structure and linkages; (8) the program and service mix provided; (9) outreach; and (10) funding. In addition, the study will consider external factors that are particularly important for understanding AJC structure, operations, policies, and processes. These include LWIBs and state-level workforce agencies that have administrative and oversight responsibilities over AJCs.

This package requests clearance for: (1) Site visits to AJCs; (2) telephone interviews with state workforce administrators in states where site visits are conducted; and (3) a network analysis survey of selected study AJC partner organizations.

The site visits include semi-structured interviews, and observations of center operations and client flow. Interviews with state workforce administrators in each state in which there is a selected AJC will be conducted to gather state-level information that is relevant for understanding local-level AJC organization and operations. A network analysis of AJC partnerships will be conducted based on a brief survey administered to a subset of the AJCs selected for site visits.

There are two primary data sources for the study: Semi-structured interviews and a survey. Semi-structured telephone interviews will be conducted with state workforce administrators. In-person interviews during the site visits will be conducted with AJC managers and key partner staff, AJC line staff, and LWIB staff; telephone interviews will be conducted in cases where an on-site meeting cannot be arranged. Field researchers will use a modular interview guide, organized by major topics that can be adapted based on the respondent's knowledge base, to prompt discussions on topics of interest to the study.

To better understand relationships between the AJC partners, the research team will supplement information about AJC partnerships obtained through semi-structured interviews with a network analysis survey of AJC partners that is distributed through email in the form of an editable PDF. The network analysis survey is a brief, targeted tool used to explore the strength of relationships between the key entities (partners) that oversee service delivery within the AJC framework as part of the overall effort to describe and analyze the institutional characteristics of the AJC system. The short survey will systematically collect information on select elements of partner interactions (frequency of communication, level of collaboration, and referral flow).

II. Desired Focus of Comments

Currently, the Department of Labor is soliciting comments concerning the above data collection Institutional Analysis of American Job Centers. Comments are requested to:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the information collection on those who are to respond, including the use of appropriate automated, electronic, mechanical, or other technological collection techniques or other forms of information technology, e.g., permitting electronic submissions of responses.

III. Current Actions

At this time, the Department of Labor is requesting clearance for data collection for the Institutional Analysis of AJCs via a survey and interviews.

Type of review: New information collection request.

OMB Control Number: 1205-0NEW.

Affected Public: Members of the public affected by the data collection include state and local government agencies, for-profit institutions, and not-for-profit institutions. Respondent groups identified include (1) State, regional, and local workforce agency and (2) AJC partners.

Frequency: Once.

Total Responses: 1,643.

Average Time per Response: 60 minutes.

Estimated Total Burden Hours: 1,643 hours.

Total Other Burden Cost: $0.

Comments submitted in response to this request will be summarized and/or included in the request for Office of Management and Budget approval; they will also become a matter of public record.

James H. Moore, Jr.,
Deputy Assistant Secretary for Policy, U.S. Department of Labor.

[FR Doc. 2014-18184 Filed 7-31-14; 8:45 am]

BILLING CODE 4510-23-P